DEPARTMENT OF ENERGY

National Energy Technology Laboratory; Notice of Intent To Issue a Funding Opportunity Announcement

AGENCY: National Energy Technology Laboratory (NETL), Department of Energy (DOE).

ACTION: Notice of intent to issue funding opportunity announcement.

SUMMARY: Notice is hereby given of the intent to issue Funding Opportunity Announcement No. DE-PS26-04NT42068 entitled State Energy Program (SEP) Special Projects Opportunity for Funding. The Department of Energy's (DOE's) Office of Energy Efficiency and Renewable Energy (EERE) is anticipating the availability of financial assistance to the States for a group of special project activities. Funding is being provided by a number of programs in the EERE Office. States may apply to undertake any of the projects being offered by these programs. Financial assistance will be awarded to the States separately for each special project, with activities to be carried out in conjunction with their efforts under SEP. The special project's funding and activities are tracked separately so that the DOE Program Offices may follow the progress of individual projects.

DATES: The funding opportunity will be available on the “Industry Interactive Procurement System” (IIPS) Web page located at http://e-center.doe.gov on or about January 8, 2004. Applicants can obtain access to the solicitation from the address above or through DOE/NETL's Web site at http://www.netl.doe.gov/business.

FOR FURTHER INFORMATION CONTACT: Kelly A. McDonald, MS I07, U.S. Department of Energy, National Energy Technology Laboratory, P.O. Box 880 / 3610 Collins Ferry Road, Morgantown, WV 26507-0880. E-mail address: kelly.mcdonald@netl.doe.gov, telephone number: (304) 285-4113.

SUPPLEMENTARY INFORMATION: The proposed projects must meet the relevant requirements of the program providing the funding, as well as of the SEP as specified in the 2004 State Energy Program Special Projects Funding Opportunity. The goals of the special projects activities are to directly involve States in activities to accelerate deployment of energy efficiency and renewable energy technologies; to facilitate the commercialization of emerging and underutilized technologies; and to increase the responsiveness of federally-funded technology development efforts to the needs of the marketplace.

Fiscal Year 2004 is the ninth year special project activities have been funded in conjunction with the State Energy Program (10 CFR 420). Most of these special projects are related to or based on similar efforts that have been funded by other DOE programs.

Availability of Fiscal Year 2004 Funds

With this publication, DOE is anticipating the availability of an estimated $14 million in new financial assistance awards from Fiscal Year 2004 appropriations. DOE's obligation for performance of this Funding Opportunity is contingent upon the availability of appropriated funds from which financial assistance awards can be made.

The awards will be made through a competitive process. The programs that are participating in the State Energy Program Special Projects Opportunity for Fiscal Year 2004, with the estimated amount of funding available for each, are as follows:

• Clean Cities: This program will provide funds to support the deployment of alternative fuels and alternative fuel vehicles (AFV) in the following six categories: (1) Projects that promote acquisition of commercially-available AFV's that maximize alternative fuel use, especially when those vehicles support an AFV niche market activity center or niche deployment strategy; (2) projects that promote AFV infrastructure development; (3) projects that promote truck idle reduction technologies; (4) projects that promote alternative fuel ferry demonstrations; (5) projects that promote the acquisition of AFV school buses and refueling infrastructure; and (6) projects that support coalition activities ($5,000,000).

• Industrial Technology Program: The objective of this program is to broaden the impact of investments in advanced industrial technologies and practices geared toward energy savings and waste reduction. This will be done through increased partnerships composed of State agencies, universities, and local small and mid-sized manufacturing entities ($1,500,000).

• Building Codes and Standards: This program will support States' actions to adopt, update, implement, enforce and evaluate the effectiveness of their residential and commercial building energy codes ($1,650,000).

• Rebuild America: This program supports Rebuild America State Programs which are consistent with the Rebuild America Strategic Plan that identifies specific and measurable building and related energy saving projects. The goal is for 50 percent of the partnerships to have completed at least one major building renovation project by 2005. The partnerships must define a program and process that would show a significant opportunity for completion of building projects ($3,000,000).

• Building America: Applications under this program should include research that coordinates with Building America's goal of creating building system performance packages that make new houses 40 percent to 70 percent more energy efficient than those built to local building code standards. Existing houses should be 30 percent more energy efficient than the local building code ($400,000).

• Federal Energy Management Program: Applications should promote and facilitate sustainable design and construction, energy efficient operations and maintenance, distributed and renewable energy, renewable energy purchases, siting of renewable power on Federal sites, and assessment and implementation of load and energy reduction techniques ($400,000).

• Solar Technology Program: The objective of this program is to deploy solar energy technologies onto brownfield sites in a manner consistent with local economic development activities and relevant local, State and Federal environmental regulations using the following activities: (1) Solar arrays located directly on the site; (2) solar technologies integrated into buildings on site; and (3) solar energy businesses located directly on site ($250,000).

• State Wind Energy Support: Applications will be sought for instrumentation of existing tall towers (100 meters or taller) in areas suitable for potential wind power development where wind shear is expected to be a significant factor. ($250,000).

• Distributed Energy and Electric Reliability—Regional Combined Cooling Heating and Power Applications Centers: The objectives of the Regional Application Centers will be to provide essential and appropriate applied research and development support, focused on the technology transfer and deployment of advanced Combined Heat and Power (CHP) technologies. The Regional Application Centers will achieve this objective through targeted education and outreach programs as well as project assistance ($800,000).

• Biomass: To foster significant penetration of biomass-based technologies and products, cost-shared applications are sought under two broad categories: (1) Outreach and information transfer to consumers, producers, and industry; or (2) development of innovative State or local incentives that facilitate increased market development of bio-based power, fuels, and other valuable products ($600,000).

Restricted Eligibility

Eligible applicants under this opportunity are limited to the 50 States, the District of Columbia, American Samoa, Guam, the Northern Mariana Islands, Puerto Rico, and the U. S. Virgin Islands. Applications must be submitted by the State Energy Office or other agency responsible for administering the State Energy Program pursuant to 10 CFR part 420, although States may work in collaboration with non-State partners. For convenience, the term “State” in the funding opportunity will refer to all eligible applicants.

The Catalog of Federal Domestic Assistance number assigned to the State Energy Program Special Projects is 81.119.

Requirements for cost sharing contributions will be addressed in each category in the anticipated opportunity. Cost sharing contributions beyond any required percentage are desirable.

Evaluation Review and Criteria

A first tier review for compliance will be conducted by the DOE NETL office. Applications found to be in compliance will undergo a merit review process by panels comprised of members representing the participating programs at DOE's Office of Energy Efficiency and Renewable Energy. DOE reserves the right to fund, in whole or in part, any, all or none of the applications submitted in response to this notice.

Once released, the funding opportunity will be available for downloading from the IIPS Internet page. At this Internet site, an applicant will also be able to register with IIPS, enabling submission of an application. Technical assistance in registering with IIPS, or any other IIPS function, may be obtained via calling the IIPS Help Desk at (800) 683-0751, or E-mailing the Help Desk personnel at IIPS_HelpDesk@e-center.doe.gov. The funding opportunity will only be made available in IIPS, no hard (paper) copies of the opportunity and related documents will be made available. Once the funding opportunity is issued, all questions regarding the opportunity must be submitted via the “Submit Question” feature in IIPS; the Government reserves the right to not answer questions submitted via any method other than the “Submit Question” feature in IIPS. Telephone requests, written requests, E-mail requests, or facsimile requests for a copy of the funding opportunity package will not be accepted and/or honored. Applications must be prepared and submitted in accordance with the instructions and forms contained in the opportunity.

Issued in Pittsburgh, PA on December 17, 2003.
Dale A. Siciliano,
Director, Acquisition and Assistance Division.

[FR Doc. 03-32267 Filed 12-31-03; 8:45 am]

BILLING CODE 6450-01-P